DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 12, 2010. Address written comments to Statutory Import Programs Staff, Room 3720, U.S. Department of Commerce, Washington, DC 20230. Applications may be examined between 8:30 a.m. and 5 p.m. at the U.S. Department of Commerce in Room 3720.

Docket Number: 10-054. Applicant: The University of Georgia (UGA), B202C Davison Life Sciences Complex, Athens, GA 30602-7229. Instrument: HV Pneumatic Quadrant Beam Position Monitor with I404 Quad Current Integrator. Manufacturer: FMB Oxford Limited, United Kingdom. Intended Use: The instrument will be used to study macromolecules of genomes and metabolic processes. Optimization of standard X-ray crystallographic techniques will be implemented to utilize the exceptionally intense X-rays produced by the Advanced Photon source, which are far greater than the X-ray capabilities available in the home source laboratory. The instrument must meet these specifications: An 11 mm diameter beam aperture, a He leak rate of < 2 × 10⁻⁸ mbar I/sec, HV compatible to < 5 × 10⁻⁷ mbar vacuum, an operational range of 2 bar to 7 bar, a 6 mm pneumatic air connection, and a 24 VCD (1.2W) at 50 mA solenoid with flying leads. Justification for Duty-Free Entry: There are no instruments of the same general category being manufactured in the United States. Application accepted by Commissioner of Customs: August 24, 2010.

Docket Number: 10-059. Applicant: UChicago LLC, 9700 South Cass Avenue Lemont, IL 60439. Instrument: Micropitting Test Machine. Manufacturer: Primelia Consulting Services Limited, United Kingdom. Intended Use: The instrument will be used to study the phenomena of micro-pitting and fatigue failure of bearing and gear materials for various lubricants and surface treatments. The instrument has capabilities that are tailored for the specific micropitting analysis, specifically the accelerometer measurement to monitor for onset of fatigue failure. The instrument also has three points of contact which will increase the speed at which tests are made. Justification for Duty-Free Entry: There are no instruments of the same general category being manufactured in the United States. Application accepted by Commissioner of Customs: August 23, 2010.

Dated: September 15, 2010.
Gregory W. Campbell,
Acting Director, IA Subsidies Enforcement Office.

[FR Doc. 2010-23714 Filed 9-21-10; 8:45 am]

BILLING CODE 3510-DS-P